DEPARTMENT OF COMMERCE

National Oceanic and Atmospheric Administration

RIN 0648-XC317

New England Fishery Management Council (NEFMC); Public Meeting

AGENCY: National Marine Fisheries Service (NMFS), National Oceanic and Atmospheric Administration (NOAA), Commerce.

ACTION: Notice of a public meeting.

SUMMARY: The New England Fishery Management Council (Council) will hold a three-day meeting on November 13-15, 2012 to consider actions affecting New England fisheries in the exclusive economic zone (EEZ).

DATES: The meeting will be held on Tuesday, Wednesday and Thursday, November 13-15, starting at 9 a.m. on Tuesday, and at 8:30 a.m. on Wednesday and Thursday.

ADDRESSES: The meeting will be held at the Newport Marriott Hotel, 25 America's Cup Avenue, Newport, Rhode Island 02840; telephone: (401) 849-1000; fax: (401) 849-3422.

Council address: New England Fishery Management Council, 50 Water Street, Mill 2, Newburyport, MA 01950; telephone: (978) 465-0492.

FOR FURTHER INFORMATION CONTACT: Paul J. Howard, Executive Director, New England Fishery Management Council; telephone: (978) 465-0492.

SUPPLEMENTARY INFORMATION:

Tuesday, November 13, 2012

Following introductions and any announcements, brief reports will be provided by the NEFMC Chairman and Executive Director, NOAA Fisheries Regional Administrator (Northeast Region), the Northeast Fisheries Science Center and Mid-Atlantic Fishery Management Council liaisons, NOAA General Counsel, representatives of the U.S. Coast Guard and the Atlantic States Marine Fisheries Commission, and staff from the Vessel Monitoring Systems Operations and Law Enforcement offices, as well as the Northeast Regional Ocean Council. These reports will be followed by a review of information concerning Council member recusals and lobbying, a discussion that will be led by NOAA General Counsel.

Following a lunch break, the Northeast Fisheries Science Center's (NEFSC) Science and Research Director will present an overview of the NEFSC draft Strategic Plan. A question and answer period is scheduled to accompany the presentation. The Council's Herring Committee will report on its efforts to further develop the 2013-15 Atlantic herring fishery specifications. This action could include additional alternatives for acceptable biological catch (ABC) and the ABC control rule as well as a range of alternatives to modify accountability measures (AMs) in the Herring Fishery Management Plan (FMP). A public listening session, to include issues that are not otherwise listed on the agenda, will be held before the Council meeting adjourns for the day.

Wednesday, November 14, 2012

On Wednesday morning, the Council will discuss the issue of jointly managing the scup fishery with the Mid-Atlantic Fishery Management Council (MAFMC), possibly approve final action on the proposed specifications for the 2013-15 spiny dogfish fishery, and receive an update on the development of Amendment 6 to the Monkfish Fishery Management Plan. Consideration of Northeast Multispecies FMP issues, specifically possible approval of Framework Adjustment 48 measures, will be addressed during the remainder of the day. Decisions may include: specifications for the 2013-2015 fishing years; modifying sub-annual catch limits for the scallop fishery; adjusting sector monitoring measures, modifying accountability measures (AMs), including the possible adoption of AMs for other fisheries that catch Southern New England/Mid-Atlantic windowpane flounder, modifying recreational fishing measures; modifying measures to allow sectors to request access to areas within the groundfish closed areas; and likely changes to other less significant measures.

Alternatively, the Council may delay final action on this action until a later meeting, but could take final action on the allocations of groundfish stocks to the scallop fishery—the sub-annual catch limits for Southern New England/Mid-Atlantic and Georges Bank yellowtail flounder and Southern New England/Mid-Atlantic windowpane flounder. This is an option for the Council even if final action is not taken on Framework Adjustment 48 at its November meeting.

Thursday, November 15, 2012

The third and final day of the NEFMC meeting will begin with consideration of Framework Adjustment 24/49 to the Scallop and Groundfish Fishery Management Plans, respectively. The Council intent is to approve scallop fishery specifications for fishing years 2013 and potentially for 2014 and 2015 as well. Other measures in the action include: (1) Possible modification of the Georges Bank access area opening dates; (2) measures to address a yellowtail flounder sub-annual catch limit for the limited access general category fishery; (3) a change to the effective date of the accountability measures for the yellowtail flounder sub-annual catch limit; (4) measures to promote flexibility in the IFQ fishery by allowing leasing after the start of the fishing year and also once a vessel has started to fish its IFQ; and (5) expanding the observer set-aside program to include limited access general category open area trips. The Council will approve its management priorities for 2013 once the scallop items have been addressed. The meeting will be adjourned at that time unless any other outstanding business is identified.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: October 23, 2012.
Tracey L. Thompson,
Acting Deputy Director, Office of Sustainable Fisheries, National Marine Fisheries Service.

[FR Doc. 2012-26362 Filed 10-25-12; 8:45 am]

BILLING CODE 3510-22-P